ENVIRONMENTAL PROTECTION AGENCY

[FRL-8698-6; Docket ID No. EPA-HQ-ORD-2008-0461]

Draft Toxicological Review of Tetrachloroethylene (Perchloroethylene): In Support of Summary Information on the Integrated Risk Information System (IRIS)

AGENCY: Environmental Protection Agency (EPA).

ACTION: Notice of listening session.

SUMMARY: EPA is announcing a listening session to be held on August 18, 2008, during the public comment period for the external review draft document entitled, “Draft Toxicological Review of Tetrachloroethylene (Perchloroethylene): In Support of Summary Information on the Integrated Risk Information System (IRIS).” This listening session is a new step in EPA's revised process, announced on April 10, 2008, for development of human health assessments for inclusion on IRIS. The purpose of the listening session is to allow interested parties to present scientific and technical comments on draft IRIS health assessments to EPA and other interested parties during the public comment period and prior to the external peer review meeting. EPA welcomes the scientific and technical comments that will be provided to the Agency by the listening session participants. The comments will be considered by the Agency as it revises the draft assessment in response to the independent external peer review and public comments. All presentations will become part of the official and public record.

The EPA's draft assessment and peer review charge are available via the Internet on the National Center for Environmental Assessment's (NCEA) home page under the Recent Additions and the Data and Publications menus at http://www.epa.gov/ncea.

DATES: The listening session on the tetrachloroethylene draft IRIS health assessment will be held on August 18, 2008, beginning at 9 a.m. and ending at 3 p.m., Eastern Daylight Time. All participants should register by August 11, 2008. At the time of registration, participants wishing to make oral comments should indicate their intention to speak, the length of the intended presentation, and if audio-visual aid (e.g., computer and projector) will be required. Each oral presentation should be no more than 15 minutes in length. If, however, the total time of presentations exceeds the allotted session time, the time limit for each presentation will be adjusted accordingly. An agenda for the listening session will be made available at the meeting. If no speakers have registered by August 11, 2008, the listening session will be cancelled and EPA will notify those registered of the cancellation.

The public comment period for review of this draft assessment was announced previously in the Federal Register (FR) (73 FR 36321) on June 26, 2008. As stated in that FR notice, the public comment period began on June 26, 2008, and ends September 24, 2008. Listening session participants who wish to have their comments available to the external peer reviewers should also submit written comments during the public comment period according to the procedures included in the aforementioned FR notice (June 26, 2008). Comments submitted to the docket prior to the end of the public comment period will be submitted to the external peer reviewers and considered by EPA.

ADDRESSES: The listening session on the draft tetrachloroethylene assessment will be held at the EPA offices at Two Potomac Yard (North Building), 4th Floor, 2733 South Crystal Drive, Arlington, Virginia, 22202. To attend the listening session, register by August 11, 2008 by providing your name, title, affiliation, full address and contact information via e-mail to ross.christine@epa.gov (subject line: “Tetrachloroethylene listening session”), by fax to 703-347-8689 (please reference “Tetrachloroetheylene listening session”) or by phone to 703-347-8592. Please note that in order to gain access to the meeting site, attendees must present government-issued photo identification and must register at the guard's desk in the building lobby. The guard will retain your photo identification, issue a visitor's badge, and contact an EPA employee to meet you in the reception area and escort you to the meeting room. Your photo identification will be returned when you exit the building.

A teleconference line will also be available for registered attendees/speakers beginning at 8:45 a.m. on August 18, 2008. The teleconference number is 866-299-3188 and the access code is 1068186199#. All teleconference participants will be asked to provide their name, title and affiliation at the beginning of the teleconference.

Information on Services for Individuals with Disabilities: For information on access or services for individuals with disabilities, please contact Christine Ross at 703-347-8592 or ross.christine@epa.gov. To request accommodation of a disability, please notify EPA at least 10 days prior to the meeting.

FOR FURTHER INFORMATION CONTACT: For information on the public listening session or the draft tetrachloroethylene assessment, contact Christine Ross at 703-347-8592 or ross.christine@epa.gov.

SUPPLEMENTARY INFORMATION: This listening session is a new step in EPA's revised process, announced on April 10, 2008, for development of human health assessments for inclusion on IRIS. The new process is posted on the NCEA home page under the Recent Additions menu at http://www.epa.gov/ncea. Two listening sessions are scheduled under the new IRIS process. The first is during the public review of the draft assessment that includes only qualitative discussion. The second session is during the public review of the externally peer-reviewed draft assessment; if feasible, this draft will include both qualitative and quantitation elements (i.e., a “complete draft”). All IRIS assessments that are at the document development stage will follow the revised process, which includes the two listening sessions. However, when EPA initiated the new IRIS process, the tetrachloroethylene draft assessment had already completed document development and been through multiple rounds of internal review. Therefore, EPA will only hold one listening session during the public review and comment period.

Dated: July 21, 2008.
Rebecca Clark,
Deputy Director, National Center for Environmental Assessment.

[FR Doc. E8-17345 Filed 7-28-08; 8:45 am]

BILLING CODE 6560-50-P